DEPARTMENT OF DEFENSE

Office of the Secretary

[Transmittal No. 22-20]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-20 with attached Policy Justification and Sensitivity of Technology.

Dated: September 21, 2023.
Aaron T. Siegel,
Alternate OSD Federal Register Liaison Officer, Department of Defense.

Transmittal No. 22-20

Notice of Proposed Issuance of Letter of Offer Pursuant to Section 36(b)(1) of the Arms Export Control Act, as amended

(i) Prospective Purchaser: Government of Poland.

(ii) Total Estimated Value:

Major Defense Equipment * | $4.4 billion
Other $1.6 billion
TOTAL | $6.0 billion

Funding Source: National Funds.

(iii) Description and Quantity or Quantities of Articles or Services under Consideration for Purchase:

Major Defense Equipment (MDE):

Two hundred fifty (250) M1A2SEPv3 Abrams Main Battle Tanks

Two hundred fifty (250) AN/VLQ-12 CREW Duke Counter-IED Systems

Twenty-six (26) M88A2 HERCULES Combat Recovery Vehicles

Seventeen (17) M1110 Joint Assault Bridges

Two hundred seventy-six (276) M2 .50 Caliber Machine Guns

Five hundred (500) M240C 7.62mm Machine Guns

Fifteen (15) AGT1500 Gas Turbine Engines

Nine thousand one hundred sixty-eight (9,168) 120mm M865 Target Practice, Cone Stabilized, Discarding Sabot—Tracer (TPCSDS-T) Cartridges

Four thousand five hundred ninety-two (4,592) 120mm M1002 Target Practice Multipurpose Tracer (TPMP-T) Projectiles

Thirteen thousand nine hundred twenty (13,920) 120mm M830A1 High Explosive Anti-Tank (HEAT) TP-T Cartridges

Six thousand nine hundred sixty (6,960) 120mm XM1147 High Explosive Multipurpose Tracers

Non-MDE:

Also included are forward repair systems; trailer mounted generators; Common Remote Operated Weapons Station Low Profile (CROWS-LP); communications equipment; GPS receivers; ammunition; spare and repair parts; Special Tools and Test Equipment (STTE); technical manuals and publications; maintenance trainers; gunnery training systems; tank driver's trainers; new equipment training; U.S. Government and contractor technical, engineering, and logistics personnel services; and other related elements of logistics and program support.

(iv) Military Department: Army (PL-B-UDT).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: February 17, 2022.

* As defined in Section 47(6) of the Arms Export Control Act.

POLICY JUSTIFICATION

Poland—M1A2 SEPv3 Main Battle Tank

The Government of Poland has requested to buy two hundred fifty (250) M1A2SEPv3 Abrams Main Battle tanks; two hundred fifty (250) AN/VLQ-12 CREW Duke counter-IED systems; twenty-six (26) M88A2 HERCULES Combat Recovery vehicles; seventeen (17) M1110 joint assault bridges; two hundred seventy-six (276) M2 .50 caliber machine guns; five hundred (500) M240C 7.62mm machine guns; fifteen (15) AGT1500 gas turbine engines; nine thousand one hundred sixty-eight (9,168) 120mm M865 Target Practice, Cone Stabilized, Discarding Sabot—Tracer (TPCSDS-T) cartridges; four thousand five hundred ninety-two (4,592) 120mm M1002 Target Practice Multipurpose Tracer (TPMP-T) projectiles; thirteen thousand nine hundred twenty (13,920) 120mm M830A1 High Explosive Anti-Tank (HEAT) TP-T cartridges; and six thousand nine hundred sixty (6,960) 120mm XM1147 High Explosive multipurpose tracers. Also included are forward repair systems; trailer mounted generators; Common Remote Operated Weapons Station Low Profile (CROWS-LP); communications equipment; GPS receivers; ammunition; spare and repair parts; Special Tools and Test Equipment (STTE); technical manuals and publications; maintenance trainers; gunnery training systems; tank driver's trainers; new equipment training; U.S. Government and contractor technical, engineering, and logistics personnel services; and other related elements of logistics and program support. The total estimated program cost is $6.0 billion.

This proposed sale will support the foreign policy and national security of the United States by helping to improve the security of a NATO Ally that is a force for political stability and economic progress in Europe.

The proposed sale will improve Poland's capability to meet current and future threats by providing a credible force that is capable of deterring adversaries and participating in NATO operations. Poland will have no difficulty absorbing this equipment into its armed forces.

The proposed sale of this equipment and support will not alter the basic military balance in the region.

The principal contractors will be General Dynamics Land Systems, Sterling Heights, MI; BAE Systems, York, PA; Leonardo DRS, Arlington, VA; Honeywell Aerospace, Phoenix, AZ; Raytheon Company, McKinney, TX; and Lockheed Martin, Orlando, FL. There are no known offset agreements proposed in connection with this proposed sale.

Implementation of this proposed sale will require approximately (22) U.S. Government and (52) U.S. contractor representatives to travel to Poland for a duration of up to five years to support equipment fielding and training.

There will be no adverse impact on U.S. defense readiness as a result of this proposed sale.

Transmittal No. 22-20

Notice of Proposed Issuance of Letter of Offer Pursuant to Section 36(b)(1) of the Arms Export Control Act

Annex

Item No. vii

(vii) Sensitivity of Technology:

1. M1A2 SEPv3 Abrams Tank: The M1A2 Abrams is a third-generation American main battle tank, produced by General Dynamics Land Systems and named for General Creighton Abrams. The M1A2 SEPv3 (System Enhancement Package version 3) features include a multi-fuel turbine engine, composite armor, an advanced computer fire control system, separate ammunition storage in a blow-out compartment, and 120mm main gun. Extensive improvements have been integrated into the latest M1A2 SEPv3 configuration. These improvements include improved digital systems, increased electrical power margin to support demands of future technologies, line replaceable modules (LRM) to reduce operational support costs, ammunition data link to support new tank main gun rounds, and an auxiliary power unit (APU). M1A2 SEPv3 Abrams tank components considered to contain sensitive technology in the proposed sale are as follows:

a. Thermal Imaging System (TIS) and Commander's Independent Thermal Viewer (CITV)

(1) The TIS and CITV constitutes a target acquisition system which, when operated with other tank systems gives the tank crew a substantial advantage over the potential threat.

(2) The TIS provides the Abrams M1A2 crew with the ability to effectively aim and fire the tank main armament system under a broad range of adverse battlefield conditions. The TIS can be operated and viewed by the tank gunner or tank commander, and is the main sighting system for the tanks' main gun (cannon). The CITV provides the same target acquisition system as the TIS, but provides the tank commander a separate system that can be controlled and operated independent of the TIS.

b. Armor: Major components of the armor are fabricated and assembled into serialized removable subassemblies, and installed in sealed modules.

c. 120mm Main Gun (Cannon) & M256 Gun Barrel: The Abrams 120mm main gun system is composed of a 120 millimeter (mm) smoothbore gun (cannon) also referred to as the M256 gun barrel, manufactured at Watervliet Arsenal; armor-piercing, fin stabilized, discarded sabot (APFSDS) and other warheads; and combustible cartridge case ammunition.

d. AGT-1500 Gas Turbine Propulsion System: The use of AGT-1500 gas turbine propulsion system in the M1A2 is a unique application of armored vehicle power pack technology. The hardware is composed of the AGT-1500 engine and transmission and is not classified. Manufacturing processes associated with the production of turbine blades, recuperator, bearings and shafts, and hydrostatic pump and motor are proprietary and therefore commercially competition sensitive.

e. Common Remotely Operated Weapon Station—Low Profile (CROWS-LP): The CROWS-LP (M153A2E1) is a commander's weapon station. It allows for operation of weapons—M2HB, M2A1, M240B and M240 machine guns. The CROWS-LP is an updated version of the M153A2 CROWS. The CROWS-LP M153A2E1 has improved performance over the M153A2.

f. Ammunition Data Link (ADL): The Ammunition Data Link (ADL) is a system consisting of hardware, electronics, software and an upgraded fire control system. The ADL is required to effectively fire the latest generation of “smart” 120mm main gun ammunition. The ADL offers the capability to supply data to the main gun ammunition to increase the capability and effectiveness of the smart round. The Advanced Multipurpose (AMP) smart round requires the ADL to function, and is a future enhancement for use with the M1A2 Abrams.

g. Driver Vision Enhancer—Abrams (DVE-A) AN/VAS-5 and Rear View Sensor System (RVSS):

(1) The AN/VAS-5 Driver Vision Enhancer—Abrams (DVE-A) and Rear View Sensor System (RVSS) are thermal imaging systems developed for use while driving combat vehicles and tactical wheeled vehicles. The DVE-A provides night vision capability for the Abrams tank driver. RVSS provides a rear view camera for the Abrams tank.

(2) DVE-A and RVSS allow for tactical vehicle movement in support of operational missions in all environmental conditions (day/night and all weather) and provides enhanced driving capability during limited visibility conditions (darkness, smoke, dust, fog, etc.).

h. Global Positioning System (GPS) AN/PSN-13 Defense Advanced GPS Receiver (DAGR): Global Positioning System (GPS) capability is currently provided to Abrams tanks using the DAGR. The DAGR is a handheld GPS receiver which utilizes Selective Availability Anti-Spoofing Module (SAASM) security. It is used for the Abrams tank, the M88A2 HERCULES Recovery Vehicle and the Joint Assault Bridge.

i. Handheld Communication Radio AN/PRC-158: The AN/PRC-158 is a multiband handheld radio. It is a portable, compact, tactical software-defined combat-net radio manufactured by L3/Harris Corporation. It is also referred to as the AN/PRC-158 Multi-Channel Manpack Radio System. The AN/PRC-158 has been fielded since 2005 by the U.S. Army, the USMC, and various select countries. It is used for the Abrams tank, the M88A2 HERCULES Recovery Vehicle and the Joint Assault Bridge.

j. Battle Management System (BMS): The BMS for the Poland SEPv3 tank will consist of a Data Distribution Unit—Expandable (DDUx), a transceiver, and commercial software called Sitaware. It equips soldiers with secure data encryption and advanced logistics. It includes an intuitive interface with features like touch-to-zoom maps and drag-and-drop icons. It is used for the Abrams tank, the M88A2 HERCULES Recovery Vehicle and the Joint Assault Bridge.

k. Counter Remote Controlled Improvised Explosive Device (RCIED) Electronic Warfare (CREW) Duke AN/VLQ-12: The AN/VLQ-12 CREW Duke system is a vehicle-mounted, lightweight system that neutralizes RCIED threats and gives troops a tactical advantage across the full spectrum of operations. It is the U.S. Army's state-of-the-art security enhancement to the U.S. Army Abrams tank. The AN/VLQ-12 CREW Duke system uses an advanced software-defined architecture that supports rapid reconfiguration to adapt to the constantly evolving threat environment.

2. M88A2 HERCULES Recovery Vehicle: The primary role of the M88A2 Heavy Equipment Recovery Combat Utility Lifting Extraction System (HERCULES) Combat Recovery Vehicle is recovery of the Abrams M1 Main Battle Tank. The 70-ton M88A2 Recovery Combat Vehicle is standard equipment to de-process, recover, and sustain the Abrams M1 Tank. The vehicle's role is to extricate combat vehicles that have become bogged down or entangled; and to repair or replace damaged parts in fighting vehicles while under fire. The M88A2 main winch is capable of 70-ton single line recovery; and a 140-ton 2:1 recovery when used with a 140-ton pulley. The A-frame boom of the M88A2 can lift 35 tons when used in conjunction with the spade down. The spade can be used for light earth moving and to anchor the vehicle when using the main winch. The M88A2 employs an Auxiliary Power Unit (APU) to provide auxiliary electrical and hydraulic power when the main engine is not in operation; the APU can also be used to slave start other vehicles. The M88A2 recovery vehicle components considered to contain sensitive technology in the proposed case are as follows:

a. AVDS-1790-8CR Engine Propulsion System: The AVDS-1790-8CR is a unique modification to the standard piston engine family in the M60 series and the base M88Al.

b. Driver's Vision Enhancer (DVE-CV M88): Driver's Vision Enhancer (DVE-CV M88) is a thermal imaging system developed for use while driving Combat Vehicles (CVs) and Tactical Wheeled Vehicles (TWVs). It allows for tactical vehicle movement in support of operational missions in all environmental conditions (day/night and all weather) and provides enhanced driving capability during limited visibility conditions (darkness, smoke, dust, fog, etc). The DVE provides night vision targeting capabilities for armored vehicles and long-range night vision reconnaissance capability to the warfighter. The DVE-CV for M88 vehicle is a platform-mounted night vision device (not man-portable), requires external power supply and is integrated into the vehicle.

3. M1110 Joint Assault Bridge: The M1110 Joint Assault Bridge (JAB) is a fully tracked armor engineer vehicle specifically designed to replace the M48/M60 AVLB, M104 Wolverine HAB and provide assault bridging capabilities to armored forces. The JAB System consists of an M1A1 Abrams chassis (with A2 heavy suspension) and a hydraulic bridge launch mechanism that will launch and retrieve the Heavy Assault Scissor Bridge MLC-115 Normal and MLC-124 Caution. The JAB contains:

a. Armor: Major components of the armor are fabricated and assembled into serialized removable subassemblies, and installed in sealed modules. -

b. AGT-1500 Gas Turbine Propulsion System: The use of AGT-1500 gas turbine propulsion system in the JAB is a unique application of armored vehicle power pack technology. The hardware is composed of the AGT-1500 engine and transmission.

c. Driver Vision Enhancer—JAB (DVE) and Rear View Sensor System (RVSS): The Driver Vision Enhancer (DVE) used on the JAB is the DVE-10 and Rear View Sensor System (RVSS) both are thermal imaging systems developed for use while driving combat vehicles and tactical wheeled vehicles. The DVE provides night vision capability for the JAB driver. The RVSS provides a rear view camera for the JAB. DVE and RVSS allow for tactical vehicle movement in support of operational missions in all environmental conditions (day/night and all weather) and provides enhanced driving capability during limited visibility conditions (darkness, smoke, dust, fog, etc.).

4. M830A1 120mm High Explosive Anti-Tank (HEAT) TP-T Cartridges is a chemical energy, multi-purpose projectile with an anti-personnel capability. The round consists of a fin stabilized steel body which is loaded with Composition A3 Type II explosive. The fins are canted and impart spin to the projectile. A copper shaped charge liner and wave shaper are contained within the warhead.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Poland will provide substantially the same degree of protection for the sensitive technology being released as the U.S. Government. This sale is necessary in furtherance of the U.S. foreign policy and national security objectives outlined in the Policy Justification.

8. All defense articles and services listed in this transmittal have been authorized for release and export to the Government of Poland.

[FR Doc. 2023-21073 Filed 9-26-23; 8:45 am]

BILLING CODE 5001-06-P